DEPARTMENT OF AGRICULTURE

Agricultural Marketing Service

7 CFR Part 205

[Doc. No. AMS-NOP-21-0073]

RIN 0581-AE06

National Organic Program (NOP); Organic Livestock and Poultry Standards; Correction

AGENCY: Agricultural Marketing Service, Department of Agriculture (USDA).

ACTION: Final rule; correction.

SUMMARY: The Agricultural Marketing Service (AMS) is correcting non-substantive errors in the regulatory text of the Organic Livestock and Poultry Standards (OLPS) final rule published on November 2, 2023. The corrections are intended to improve readability and clarity.

DATES: Effective January 12, 2024.

FOR FURTHER INFORMATION CONTACT: Erin Healy, Director, Standards Division; Telephone: (202) 720-3252; Email: erin.healy@usda.gov.

SUPPLEMENTARY INFORMATION: The OLPS final rule published on November 2, 2023 (88 FR 75394), delayed December 13, 2023 (88 FR 86259), amends the USDA organic regulations related to the production of livestock, including poultry, marketed as organic. This action corrects five errors in the OLPS regulatory text published on November 2, 2023, to improve the readability and clarity of the rule. The corrections do not change the meaning of the regulations.

Section 553 of the Administrative Procedure Act, 5 U.S.C.553(b)(B), provides that, when an agency for good cause finds that notice and public procedure are impracticable, unnecessary, or contrary to the public interest, an agency may issue a rule without providing notice and an opportunity for public comment. AMS has determined that there is good cause for making these corrections final without prior proposal and opportunity for comment because AMS is merely correcting minor non-substantive errors and omissions in the regulatory text. Accordingly, AMS finds that there is good cause to dispense with notice and public procedure under 5 U.S.C. 553(b)(B). With respect to the effective date, this final rule correction is not substantive in nature, and there is good cause to dispense with a 30-day delayed effective date. This final rule correction will be effective January 12, 2024, in conjunction with the entirety of the rule, as provided by FR Doc. 2023-27255 (88 FR 86259; December 13, 2023).

Corrections

In FR Doc. 2023-23726 appearing in the Federal Register of November 2, 2023, at 88 FR 75394, the following corrections are made:

§ 205.2 [Corrected]

1. On page 75444, in the third column, in § 205.2, in the definition of Cattle wattling, “The surgical separation of two layers of the skin from the connective tissue for along a 2-to-4-inch path” is corrected to read “The surgical separation of two layers of the skin from the connective tissue along a 2-to-4-inch path”.

§ 205.239 [Corrected]

2. On page 75447, in the first column, in § 205.239, in paragraph (c)(4), “provide each animal with an average of at least 30 percent DMI” is corrected to read “provide each animal with an average of at least 30 percent dry matter intake (DMI)”.

§ 205.241 [Corrected]

3. On page 75447, in the second column, in § 205.241, in paragraph (a), “including: year-round access to outdoors;” is corrected to read, “including: year-round access to the outdoors;”.

4. On page 75447, in the third column, in § 205.241, in paragraph (b)(4)(i), “a certifier may approve practices that provide less than 1 linear feet per 360 birds” is corrected to read, “a certifier may approve practices that provide less than 1 linear foot per 360 birds”.

5. On page 75448, in the second column, in § 205.241, in paragraph (d)(8), “For 4-H, National FFA Organization, and other youth projects, provided that temporary confinement for no more than one week prior to a fair or other demonstration,” is corrected to read, “For 4-H, National FFA Organization, and other youth projects, for no more than one week prior to a fair or other demonstration,”.

Erin Morris,
Associate Administrator, Agricultural Marketing Service.

[FR Doc. 2023-28499 Filed 12-27-23; 8:45 am]

BILLING CODE P